NATIONAL AERONAUTICS AND SPACE ADMINISTRATION

[Notice (11-076)]

National Environmental Policy Act: Launch of NASA Routine Payloads on Expendable Launch Vehicles

AGENCY: National Aeronautics and Space Administration (NASA).

ACTION: Notice of availability and request for comments on the draft environmental assessment (“Draft EA”) for launch of NASA routine payloads on expendable launch vehicles.

SUMMARY: Pursuant to the National Environmental Policy Act of 1969 (NEPA), as amended (42 U.S.C. 4321 et seq.), the Council on Environmental Quality (CEQ) Regulations for Implementing the Procedural Provisions of NEPA (40 CFR parts 1500-1508), and NASA NEPA policy and procedures (14 CFR part 1216 subpart 1216.3), NASA has prepared a Draft EA for launch of NASA routine payloads on expendable launch vehicles. For purposes of this Draft EA, NASA routine payloads include science instruments, spacecraft or technology demonstrations. This EA updates the Final Environmental Assessment for Launch of NASA Routine Payloads on Expendable Launch Vehicles from Cape Canaveral Air Force Station Florida and Vandenberg Air Force Base California published in June 2002. NASA missions covered by this Draft EA would be scheduled for launch at one of the proposed launch sites and would be within the total number of launch operations previously analyzed in launch vehicle and launch site NEPA documents. The proposed launches would occur from existing launch facilities at CCAFS, Florida, VAFB, California, the United States Army Kwajalein Atoll/Reagan Test Site (USAKA/RTS) in the Republic of the Marshall Islands (RMI), NASA's Wallops Flight Facility (WFF), Virginia, and the Kodiak Launch Complex (KLC), Alaska. The Cooperating Agencies on this Draft EA include the Federal Aviation Administration (FAA), the Air Force Space and Missile Systems Center, the U.S. Army Space and Missile Defense Command, and the National Oceanic and Atmospheric Administration (NOAA).

The Draft EA analyzes the potential environmental impacts associated with preparing and implementing launches of missions that are designated NASA routine payloads on U.S. expendable launch vehicles from existing U.S. facilities using established procedures. The NASA routine payloads meet rigorously defined criteria ensuring that the spacecraft and their operation would not present any new or substantial environmental and safety concerns. A Routine Payload Checklist is used to exclude missions from consideration as routine payloads if they: (1) Include any extraterrestrial sample return; (2) would be launched on a vehicle or from a launch site for which NASA has not completed NEPA compliance; (3) carry radioactive sources that could not be approved by the NASA Office of Safety and Mission Assurance Nuclear Flight Safety Assurance Manager or designee; (4) cause the manifested launch rate (per year) for a particular launch vehicle to exceed the rate previously approved and permitted at the launch sites; (5) require the construction of any new facilities (or substantial modification of existing facilities); (6) utilize hazardous materials in quantities exceeding the Envelope Payload Characteristics (EPCs); (7) utilize potentially hazardous material whose type or amount would not be covered by new or existing local permits; (8) release material other than propulsion system exhaust or inert gases into the atmosphere; (9) suggest the potential for any substantial impact on public health and safety not covered by this Draft EA; (10) have the potential for substantial effects on the environment outside the United States; (11) utilize an Earth-pointing laser system that does not meet the requirements for safe operations according to American National Standards Institute analysis techniques; (12) carry live or inactive disease-causing biological agents beyond Biological Safety Level 1; or (13) have the potential to create substantial public controversy related to environmental issues.

Payloads that fall within the Routine Payload Checklist would utilize materials, quantities of materials, launch vehicles, and operational characteristics that are consistent with normal and routine payload preparation and flight activities at these specified launch sites. Therefore, the environmental impacts of launching routine payloads would fall within the range of routine, ongoing, and previously documented impacts associated with approved programs that have been determined not to be significant. The purpose and need for this proposed action is to fulfill NASA's mission for Earth exploration, space exploration, technology development, and scientific research. The scientific missions associated with NASA routine payloads could not be accomplished without launching orbital and interplanetary spacecraft.

DATES: Interested parties are invited to submit comments on the Draft EA in writing no later than 45 days from the date of publication of this notice in the Federal Register.

ADDRESSES: Comments should be submitted via electronic mail to: routine-payload-ea@lists.nasa.gov.

Comments may also be submitted via postal mail addressed to: George Tahu, NASA Program Executive, Science Mission Directorate, Planetary Science Division, Mail Stop 3V71, NASA Headquarters, 300 E Street, SW., Washington, DC 20546.

The Draft EA is available for review at http://www.nasa.gov/green/nepa/routinepayloadea.html.

The Draft EA may also be reviewed at the following locations:

(a) NASA Headquarters, Library, Room 1J20, 300 E Street, SW., Washington, DC 20546 (202-358-0167).

(b) Central Brevard Library and Reference Center, 308 Forrest Ave., Cocoa, FL 32922 (321-633-1792).

(c) Jet Propulsion Laboratory, Visitors Lobby, Building 249, 4800 Oak Grove Drive, Pasadena, CA 91109 (818-354-5179).

(d) NASA, Goddard Space Flight Visitor's Center, 8463 Greenbelt Road, Greenbelt, MD 20771 (301-286-8981).

(e) Chincoteague Island Library, 4077 Main Street, Chincoteague, VA 23336 (757-336-3460).

(f) NASA WFF Technical Library, Building E-105, Wallops Island, VA 23337 (757-824-1065).

(g) Eastern Shore Public Library, 23610 Front Street, Accomac, VA 23301 (757-787-3400).

(h) Kodiak Library, 319 Lower Mill Bay Road, Kodiak, AK 99615 (907-486-8680).

(i) NASA Ames Research Center, Moffett Field, CA 94035 (650-604-3273).

(j) Grace Sherwood and Roi-Namur Libraries, P.O. Box 23, Kwajalein, Marshall Islands APO, A.P. 96555. (805-355-2015).

(k) Alele Public Library, P.O. Box 629, Majuro, Republic of the Marshall Islands 96960. (692-625-3372).

(l) Lompoc Public Library, 501 E. North Avenue, Lompoc, CA 93436 (850-875-8775).

(m) Santa Maria Public Library, 420 South Broadway, Santa Maria, CA 93454-5199 (805-925-0994).

(n) Government Information Center, Davidson Library, University of California, Santa Barbara, Santa Barbara, CA 93106-9010 (805-893-8803).

(o) Vandenberg Air Force Base Library, 100 Community Loop, Building 10343A, Vandenberg AFB, CA 93437 (805-606-6414).

(p) Hampton Library, 4207 Victoria Blvd., Hampton, VA 23669 (757-727-1154).

Limited hard copies of the Draft EA are available, on a first request basis, by contacting Mr. Tahu at the address or telephone number indicated herein.

FOR FURTHER INFORMATION CONTACT: George Tahu, Program Executive at the Science Mission Directorate, NASA Headquarters, telephone 202-358-0723 or via electronic mail at routine-payload-ea@lists.nasa.gov.

SUPPLEMENTARY INFORMATION: U.S. space and Earth exploration is integral to NASA's strategic plan for carrying out its mission. NASA is also committed to the further development of advanced, low-cost technologies for exploring and utilizing space. To fulfill these objectives, a continuing series of scientific spacecraft would need to be designed, built, and launched into Earth orbit or towards other bodies in the Solar System. These spacecraft would flyby, encounter, orbit about, land on, or impact with these Solar System bodies to collect various scientific data that would be transmitted to Earth via radio for analysis. The scientific missions associated with NASA routine payloads could not be accomplished without launching such scientific spacecraft.

The proposed action is comprised of preparing and launching missions designated as NASA routine payloads. The design and operational characteristics and, therefore, the potential environmental impacts of routine payloads would be rigorously bounded. NASA routine payloads would utilize materials, launch vehicles, facilities, and operations that are normally and customarily used at all proposed launch sites. The routine payloads would use these materials, launch vehicles, facilities, and operations only within the scope of activities already approved or permitted. The scope of this Draft EA includes all spacecraft that would meet specific criteria on their construction and launch, would accomplish the requirements of NASA's research objectives, and would not present new or substantial environmental impacts or hazards. These spacecraft would meet the limitations set forth in the Routine Payload Checklist, which was developed to delimit the characteristics and environmental impacts of this group of spacecraft. Preparation and launch of all spacecraft that are defined as routine payloads would have potential environmental impacts that fall within the range of routine, ongoing, and previously documented impacts associated with approved missions that have been determined not to be significant. Alternative spacecraft designs that exceed the limitations of the Routine Payload Checklist may have new or substantial environmental impacts or hazards and would be subjected to additional environmental analysis. Foreign launch vehicles would require individual consideration, review, and separate environmental analysis, and were not considered to be reasonable alternatives for the purpose of this NASA routine payload Draft EA. The No-Action Alternative would mean that specific criteria and thresholds presented in the 2002 Final Environmental Assessment for Launch of NASA Routine Payloads on Expendable Launch Vehicles from CCAFS Florida and VAFB California would be used to determine a spacecraft's eligibility to be considered a NASA Routine Payload launching on the Pegasus, Taurus, Atlas and Delta families of the vehicles from CCAFS and VAFB. The No-Action alternative would mean that NASA would not launch scientific and technology demonstration spacecraft missions defined as routine payloads on the Falcon and Minotaur families of launch vehicles from any of the launch sites, nor would NASA launch payloads from USAKA, WFF, or KLC, without individual mission NEPA review and documentation.

If the No-Action alternative were selected, NASA would revert to publishing individual NEPA documentation for each mission. Duplicate analyses and redundant documentation for spacecraft missions that meet the limitations of the Routine Payload Checklist, however, would not present any new information or identify any substantially different environmental impacts.

The launch vehicles proposed for launching the routine payload spacecraft represent all presently or soon to be available domestic (U.S.) vehicles that would be suitable for launching the routine payloads, would likely be available, have documented environmental impacts demonstrating NEPA compliance, and would use either existing launch facilities or launch facilities for which environmental impacts have been examined in NEPA documents, or will be in the future. The expendable launch vehicles specifically included in this action include the following: the Athena I and II, Atlas V family, the Delta family, the Falcon family, the Minotaur family, the Pegasus XL, and Taurus family. These launch vehicles would accommodate the desired range of payload masses, would provide the needed trajectory capabilities, and would provide highly reliable launch services. Individual launch vehicles would be carefully matched to the launch requirements of each particular NASA routine payload.

In the event that other launch vehicles become available after final publication of this Draft EA, they could be NEPA compliant under this Draft EA if they meet the following criteria: (1) NASA has been a cooperating agency with the Department of Defense (DoD) or FAA on the launch vehicle for that given launch site; (2) NASA has published NEPA documentation for that specific launch vehicle at that specific launch site; or (3) NASA formally adopts another agency's NEPA documentation. In addition, launch vehicles covered in this Draft EA could be eligible for launch from commercial spaceports or DoD installations not covered by this document if: (1) NASA is a cooperating agency on the NEPA documents developed by the DoD or FAA for that site; (2) NASA formally adopts those NEPA documents as its own pursuant to CEQ regulations; or (3) NASA completes its own NEPA documentation on a specific launch site.

For the NASA routine payload missions, the potentially affected environment for normal launches includes the areas at and in the vicinity of the proposed launch sites, CCAFS, Florida, VAFB, California, USAKA/RTS, RMI, WFF, Virginia, and KLC, Alaska. Because propellants are typically the largest contributors to potential environmental impacts of a NASA Routine Payload launch, the total propellant load for a payload is considered in this Draft EA. If the payload propellant load exceeds the EPC defined in the Draft EA, then additional NEPA analysis and documentation would be required. For normal launches of NASA routine payloads under the proposed action, the environmental impacts would be associated principally with the exhaust emissions from the launch vehicles. These effects would include short-term impacts on air quality within the exhaust cloud and near the launch pads, and the potential for acidic deposition on the vegetation and surface water bodies at and near each launch complex, particularly if a rain storm occurred. NASA routine payload processing and launch activities would not require any additional permits or mitigation measures beyond those already existing, or in coordination, for launches.

There are no direct or substantial environmental impacts, including cumulative impacts, associated with the proposed action that have not already been covered by NEPA documentation for the existing launch sites, launch vehicles, launch facilities, and payload processing facilities.

Olga M. Dominguez,
Assistant Administrator for Strategic Infrastructure.

[FR Doc. 2011-21419 Filed 8-22-11; 8:45 am]

BILLING CODE 7510-13-P